DEPARTMENT OF COMMERCE

National Oceanic and Atmospheric Administration

Agency Information Collection Activities; Submission to the Office of Management and Budget (OMB) for Review and Approval; Comment Request; Licensing of Private Remote-Sensing Space Systems

AGENCY: National Oceanic & Atmospheric Administration (NOAA), Commerce.

ACTION: Notice; correction.

SUMMARY: On February 8, 2022, the Department of Commerce, published a 60-day public comment period notice in the Federal Register with FR Document Number 2022-02601 (Pages 7156-7157) seeking public comments for an information collection entitled, “Licensing of Private Remote Sensing Space Systems.” This document referenced incomplete information in the ABSTRACT and DATA sections, and Commerce hereby issues a correction notice as required by the Paperwork Reduction Act of 1995.

FOR FURTHER INFORMATION CONTACT: For additional information concerning this correction, contact Adrienne Thomas, NOAA PRA Officer, at 240-577-2372 or NOAA.PRA@noaa.gov.

SUPPLEMENTARY INFORMATION:

Correction

Abstract

NOAA is proposing to add a third new form to this information collection. The optional Licensee Notification Form (LNF) information includes contact information and the option to report one of four types of events, including (1) the launch or deployment of a system component; (2) the disposal of a system component; (3) the detection of an anomaly in a system; and (4) the financial insolvency of the licensee. The existing IC already allows for the collection of this information, the collection of which is required by statute and regulations. The LNF will ease the burden on licensees when reporting this already-required information. The LNF may be submitted electronically through the NOAA website throughout the term of a license. The LNF information received is used to record events in the lifecycle of the system and to help determine if modifications to a license are required. The LNF ensures that only required information is submitted, thereby reducing unnecessary paperwork and/or follow-up correspondence.

Data

Estimated Time per Response: 15 minutes for the Licensee Notification Form.

Estimated Total Annual Burden Hours: 5 hours for the LNF.

Respondent's Obligation: The LNF is voluntary.

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-03419 Filed 2-17-22; 8:45 am]

BILLING CODE 3510-HR-P